DEPARTMENT OF EDUCATION

[CFDA No. 84.033]

Student Financial Assistance, Federal Work-Study Programs

AGENCY: Department of Education.

ACTION: Notice of the closing date for institutions to submit a request for a waiver of the seven percent community service expenditure requirements in the Federal Work-Study (FWS) Program.

SUMMARY: June 26, 2000 is the closing date for institutions to request a waiver of the community service expenditure requirements for the 2000-2001 award year (July 1, 2000 through June 30, 2001). An institution is required to expend at least seven percent of its total Federal allocation under the FWS program to compensate students in community service employment. Also, in meeting the seven percent community service expenditure requirement, one or more of the institution's FWS students must be employed as a reading tutor for children in a reading tutoring project or performing family literacy activities in a family literacy project. The FWS program is authorized by part C of title IV of the Higher Education Act of 1965, as amended (HEA).

DATES: Closing Date for Submitting a Waiver Request and any Supporting Information or Documents. To request a waiver, an institution must mail or hand deliver its waiver request to the Department by 5:00 p.m. eastern time on June 16, 2000. If you choose you may fax or e-mail your waiver request and any supporting information or documents by 5 p.m. eastern time on June 16, 2000. You must fax the waiver request to Sandra Donelson at (202) 205-1919 or (202) 260-0522 or e-mail to the following address: Sandra_Donelson@ed.gov.

ADDRESSES: Waiver Requests Delivered by Mail. An institution must address a waiver request delivered by mail to Ms. Sandra Donelson, Student Financial Assistance, U.S. Department of Education, 400 Maryland Avenue, SW., Suite 600D, Portals Building, Washington, DC 20202-5453. An institution must show proof of mailing consisting of one of the following: (1) A legibly dated U.S. Postal Service postmark; (2) a legible mail receipt with the date of mailing stamped by the U.S. Postal Service; (3) a dated shipping label, invoice, or receipt from a commercial carrier; or (4) any other proof of mailing acceptable to the Secretary of Education.

If a waiver request is sent through the U.S. Postal Service, the Secretary does not accept either as proof of mailing: (1) A private metered postmark or (2) a mail receipt that is not dated by the U.S. Postal Service.

An institution should note that the U.S. Postal Service does not uniformly provide a dated postmark. Before relying on this method, an institution should check with its local post office.

The Secretary encourages an institution to use certified or at least first-class mail. Institutions that submit waiver requests after the closing date of June 16, 2000, will not be considered.

Waiver Request Delivered by Hand. If an institution delivers its waiver request by hand, it must deliver the waiver request to Ms. Sandra Donelson, Student Financial Assistance, U.S. Department of Education, Suite 600D, Portals Building, 1250 Maryland Avenue, SW., Washington, D.C. The Secretary accepts hand-delivered waiver requests between 8 a.m. and 5 p.m. (Eastern time) daily, except Saturdays, Sundays, and Federal holidays. The Secretary will not accept waiver requests that are delivered by hand after 5 p.m. on June 16, 2000.

SUPPLEMENTARY INFORMATION: Under section 443(b)(2)(A) of the HEA, an institution must use at least seven percent of the total amount of its FWS Federal allocation granted for an award year to compensate students employed in community service. However, we may waive this requirement if it is determined that enforcing it would cause hardship for students at the institution.

An appropriate institutional official must sign the waiver request and include, above the signature, the following statement: “I certify that the information I provided in this waiver request is true and accurate to the best of my knowledge. I understand that the information is subject to audit and program review by the Department of Education.”

To receive a waiver, you must demonstrate that complying with the seven percent requirements would cause hardship for students at your institution. To allow flexibility to consider factors that may be valid reasons for a waiver, we do not specify the particular circumstances that would support granting a waiver. However, we do not foresee many instances in which a waiver will be granted. The fact that it may be difficult for you to comply with this provision of the HEA is not a basis for granting a waiver.

Applicable Regulations

The following regulations apply to the Federal Work-Study program:

(1) Student Assistance General Provisions, 34 CFR part 668.

(2) General Provisions for the Federal Perkins Loan Program, Federal Work-Study Program, and Federal Supplemental Educational Opportunity Grant Program, 34 CFR part 673.

(3) Federal Work-Study Programs, 34 CFR part 675.

(4) Institutional Eligibility Under the Higher Education Act of 1965, as amended, 34 CFR part 600.

(5) New Restrictions on Lobbying, 34 CFR part 82.

(6) Government Debarment and Suspension (Nonprocurement) and Government Requirements for Drug-Free Workplace (Grants), 34 CFR part 85.

(7) Drug and Alcohol Abuse Prevention, 34 CFR part 86.

FOR FURTHER INFORMATION CONTACT: Ms. Sandra Donelson, Student Financial Assistance, U.S. Department, 400 Maryland Avenue, SW., Suite 600D Portals Building, Washington, DC. Telephone (202) 708-9751. Individuals who use a telecommunications device for the deaf (TDD) may call the Federal Information Relay Service (FIRS) at 1-800-877-8339.

Individuals with disabilities may obtain this document in an alternate format (e.g., Braille, large print, audiotape or computer diskette) by contacting the Alternate Format Center at (202) 260-9895 between 8:30 a.m. and 4:30 p.m., Eastern time, Monday through Friday.

Electronic Access to This Document

You may view this document, as well as all other Department of Education documents published in the Federal Register, in the text or Adobe Portable Document Format (PDF) on the Internet at either of the following sites:

http://ocfo.ed.gov/fedreg.htm

http://www.ed.gov/news.html

To use the PDF version you must have Adobe Acrobat Reader, which is available free at either of the previous sites. If you have questions about using the PDF version, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 42 U.S.C. 2753.

Dated: May 23, 2000.
Greg Woods,
Chief Operating Officer, Student Financial Assistance.

[FR Doc. 00-13398 Filed 5-26-00; 8:45 am]

BILLING CODE 4000-01-P